DEPARTMENT OF ENERGY

Federal Energy Regulatory Commission

[Docket No. RM19-12-000]

Revisions to the Filing Process for Commission Forms; Notice of eFORMS Update

As provided for in the July 17, 2020 Order on Technical Conference, notice is hereby given of a technical update to the taxonomy code necessary for submitting Form No. 60.¹ This update is available at the eForms portal at https://ecollection.ferc.gov/. In particular, the Release 2.0 taxonomy code for Form No. 60 has been corrected to change the period type for DividendRate from instant to duration so that it is consistent with how the transaction is reported.

¹ Revisions to the Filing Process for Comm'n Forms, 172 FERC ¶ 61,059 (2020) (July 17, 2020 Order on Technical Conference).

Dated: April 1, 2022.
Kimberly D. Bose,
Secretary.

[FR Doc. 2022-07400 Filed 4-6-22; 8:45 am]

BILLING CODE 6717-01-P